DEPARTMENT OF ENERGY

Federal Energy Regulatory Commission

Combined Notice of Filings

Take notice that the Commission has received the following Natural Gas Pipeline Rate and Refund Report filings:

Filings Instituting Proceedings

Docket Numbers: RP18-415-000.

Applicants: Petition for Initiation of Show Cause Proceedings.

Description: Industry Petition for Initiation of Show Cause Proceedings Directed To Interstate Natural Gas Pipelines and Storage Companies.

Filed Date: 1/31/18.

Accession Number: 20180131-5345.

Comments Due: 5 p.m. ET 2/12/18.

Docket Numbers: RP18-413-001.

Applicants: Gulf South Pipeline Company, LP.

Description: Tariff Amendment: Amendment to Filing in Docket No. RP18-413-000 to be effective 2/1/2018.

Filed Date: 2/1/18.

Accession Number: 20180201-5113.

Comments Due: 5 p.m. ET 2/13/18.

Docket Numbers: RP18-422-000.

Applicants: Algonquin Gas Transmission, LLC.

Description: § 4(d) Rate Filing: Negotiated Rates—4-1-2018 releases to Twin Eagle to be effective 4/1/2018.

Filed Date: 2/5/18.

Accession Number: 20180205-5050.

Comments Due: 5 p.m. ET 2/20/18.

Docket Numbers: RP18-426-000.

Applicants: Columbia Gas Transmission, LLC.

Description: § 4(d) Rate Filing: Settlement Base Rates and CCRM 2017 Adjustment to be effective 1/1/2018.

Filed Date: 2/5/18.

Accession Number: 20180205-5101.

Comments Due: 5 p.m. ET 2/20/18.

Docket Numbers: RP18-427-000.

Applicants: Columbia Gas Transmission, LLC.

Description: § 4(d) Rate Filing: Adjusted CCRM 2018 to be effective2/1/2018.

Filed Date: 2/5/18.

Accession Number: 20180205-5106.

Comments Due: 5 p.m. ET 2/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 7, 2018.
Nathaniel J. Davis, Sr.,
Deputy Secretary.

[FR Doc. 2018-03067 Filed 2-13-18; 8:45 am]

BILLING CODE 6717-01-P